FEDERAL COMMUNICATIONS COMMISSION

47 CFR Parts 1, 8, and 20

[GN Docket No. 14-28; FCC 15-24]

Protecting and Promoting the Open Internet

AGENCY: Federal Communications Commission.

ACTION: Final rule; announcement of applicability date.

SUMMARY: In this document, the Commission announces that the Office of Management and Budget (OMB) has approved, for a period of three years for fixed broadband Internet access service (3060-1158) and for a period of two years for mobile broadband Internet access service (3060-1220), the information collections associated with the transparency rule enhancements adopted by the Commission in Protecting and Promoting the Open Internet, Report and Order on Remand, Declaratory Ruling, and Order (Open Internet Order). On August 11, 2015, the Commission requested approval of a modified information collection to include the transparency rule enhancements. OMB has approved the information collection as it applies to fixed broadband Internet access service for a period of three years (3060-1158) and, except for disclosure of packet loss, as it applies to mobile broadband Internet access service for a period of two years (3060-1220). The Open Internet Order stated that the Commission would publish a document in the Federal Register announcing the effective of the modified information collection requirements associated with the enhancements following OMB approval.

DATES: The modified information collection requirements contained in paragraphs 164, 166, 167, 169, 173, 174, 179, 180, and 181, published at 80 FR 19737, April 13, 2015, are applicable January 17, 2017 for fixed broadband Internet access service. The modified information collection requirements, except for disclosure of packet loss, contained in paragraphs 164, 166, 167, 169, 173, 174, 179, 180, and 181, published at 80 FR 19737, April 13, 2015, are applicable January 17, 2017 for mobile broadband Internet access service.

FOR FURTHER INFORMATION CONTACT: John B. Adams, Consumer Policy Division, Consumer and Governmental Affairs Bureau, at (202) 418-2854, or email: JohnB.Adams@fcc.gov.

SUPPLEMENTARY INFORMATION: This document announces that, on December 15, 2016, OMB approved, for a period of three years, the information collection requirements relating to the enhancements to the transparency rule in paragraphs 164, 166, 167, 169, 173, 174, 179, 180, and 181 of the Commission's Open Internet Order, GN Docket No. 14-28, FCC 15-24, published at 80 FR 19737, April 13, 2015 applicable to fixed broadband Internet access service. The OMB Control Number is 3060-1158. This document also announces that, on December 15, 2016, OMB approved, for a period of two years, the information collection requirements relating to the enhancements to the transparency rule, except for disclosure of packet loss, in paragraphs 164, 166, 167, 169, 173, 174, 179, 180, and 181 of the Commission's Open Internet Order, GN Docket No. 14-28, FCC 15-24, published at 80 FR 19737, April 13, 2015 applicable to mobile broadband Internet access service. The OMB Control Number is 3060-1220. The Commission sought public comment on the associated burden estimates on May 20, 2015 (80 FR 29000) and on August 11, 2016 (81 FR 53145). The Commission publishes this document as an announcement of the applicability date of the enhancements. If you have any comments on the burden estimates listed below, or how the Commission can improve the collections and reduce any burdens caused thereby, please contact Cathy Williams, Federal Communications Commission, Room 1-C823, 445 12th Street SW., Washington, DC 20554. Please include the OMB Control Numbers, 3060-1158 and 3060-1220, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on December 15, 2016, for the information collection requirements relating to the enhancements to the transparency rule contained in paragraphs 164, 166, 167, 169, 173, 174, 179, 180, and 181 of the Commission's Open Internet Order applicable to fixed broadband Internet access service. The FCC also is notifying the public that it received final OMB approval on December 15, 2016, for the information collection requirements relating to the enhancements to the transparency rule, except for disclosure of packet loss, contained in paragraphs 164, 166, 167, 169, 173, 174, 179, 180, and 181 of the Commission's Open Internet Order applicable to mobile broadband Internet access service.

During OMB's review of the modified information collection, it determined that the mobile broadband disclosures were at a different stage than the fixed broadband disclosures and should therefore be approved for two years, with conditions, rather than the three year approval, without conditions, for fixed broadband. OMB therefore issued Control No. 3060-1220 for Transparency Rule Disclosures, Protecting and Promoting the Open Internet, Report and Order on Remand, Declaratory Ruling, and Order, GN Docket No. 14-28, FCC 15-24 (Mobile Broadband Disclosures) and Control No. 3060-1158 for Transparency Rule Disclosures, Protecting and Promoting the Open Internet, Report and Order on Remand, Declaratory Ruling, and Order, GN Docket No. 14-28, FCC 15-24 (Fixed Broadband Disclosures). Although there is a separate collection for mobile broadband disclosures, the FCC is reporting an identical burden estimate for the calculation and disclosure of broadband performance data by both fixed and mobile broadband providers, which was subject to public review and comment. Under 5 CFR 1320, an agency may not conduct or sponsor a collection of information unless it displays a current, valid OMB Control Number.

No person shall be subject to any penalty for failing to comply with a collection of information subject to the Paperwork Reduction Act that does not display a current, valid OMB Control Number. The OMB Control Number for fixed broadband Internet access service is 3060-1158. The OMB Control Number for mobile broadband Internet access service is 3060-1220.

The foregoing notice is required by the Paperwork Reduction Act of 1995, Public Law 104-13, October 1, 1995, and 44 U.S.C. 3507.

The total annual reporting burdens and costs for the respondents are as follows:

OMB Control Numbers: 3060-1158 (fixed broadband) and 3060-1220 (mobile broadband).

OMB Approval Date: December 15, 2016.

OMB Expiration Date: December 31, 2019 for fixed broadband Internet access service; December 31, 2018 for mobile broadband Internet access service.

Title: Transparency Rule Disclosures, Protecting and Promoting the Open Internet, Report and Order on Remand, Declaratory Ruling, and Order, GN Docket No. 14-28, FCC 15-24.

Form Number: N/A.

Respondents: Businesses or other for-profit entities; Not-for profit entities; State, local or tribal governments.

Number of Respondents and Responses: 3,188 respondents; 3,188 responses.

Estimated Time per Response: 31.2 hours (average).

Frequency of Response: On occasion reporting requirement; Third party disclosure requirement.

Obligation to Respond: Mandatory. The statutory authority for this information collection is contained in sections 1, 2, 3, 4, 10, 201, 202, 301, 303, 316, 332, 403, 501, 503 of the Communications Act of 1934, as amended, and section 706 of the Telecommunications Act of 1996, as amended, and 47 U.S.C. 151, 152, 153, 154, 160, 201, 202, 301, 303, 316, 332, 403, 501, 503, and 1302.

Total Annual Burden: 99,466 hours.

Total Annual Cost: $640,000.

Nature and Extent of Confidentiality: An assurance of confidentiality is not offered because this information collection does not require the collection of personally identifiable information (PII) from individuals.

Privacy Act: No impact(s).

Needs and Uses: The Commission's transparency rule for providers of broadband Internet access service require all providers of broadband Internet access service to publicly disclose accurate information regarding the network management practices, performance, and commercial terms of their broadband Internet access services sufficient for consumers to make informed choices regarding use of such services and for content, application, service, and device providers to develop, market, and maintain Internet offerings. The rules ensure transparency and continued Internet openness, while making clear that broadband providers can manage their networks effectively. The enhancements to the transparency rule adopted in the Open Internet Order will better enable end-user consumers to make informed choices about broadband services by providing them with timely information tailored more specifically to their needs, and will similarly provide edge providers with the information necessary to develop new content, applications, services, and devices that promote the virtuous cycle of investment and innovation. The Commission anticipates that small entities may have less of a burden, and larger entities may have more of a burden than the average compliance burden. This is because larger entities serve more customers, are more likely to serve multiple geographic regions, and are not eligible to avail themselves of the temporary exemption from the enhancements granted to smaller providers.

Federal Communications Commission.
Marlene H. Dortch,
Secretary.

[FR Doc. 2016-30766 Filed 12-20-16; 8:45 am]

BILLING CODE 6712-01-P